FEDERAL ELECTION COMMISSION

Sunshine Act; Meetings

Date and Time: Tuesday, April 22, 2003, at 10 a.m.

Place: 999 E Street, NW., Washington, DC.

Status: This meeting will be closed to the public.

Items to be discussed: Compliance matters pursuant to 2 U.S.C. 437g

Audits conducted pursuant to 2 U.S.C. 437g, 438(b) and title 26, U.S.C.

Matters concerning participation in civil actions or proceedings or arbitration.

Internal personnel rules and procedures or matters affecting a particular employee.

DATE and TIME: Thursday, April 24, 2003, at 10 a.m.

PLACE: 999 E Street, NW., Washington, DC. (Ninth Floor).

Status: This meeting will be open to the public.

Items to be discussed: Correction and Approval of Minutes.

Draft Advisory Committee 2003-03—State Senator Bill Boling, State Delegate Bill Janis, Chesterfield County School Board Member Beth Davis, and United States Representative Eric Cantor by counsel, Jan Witold Baran.

Draft Advisory Opinion 2003-04—Freeport-McMoRan Copper & Gold, Inc. (Freeport), and Freeport-McMoRan Copper & Gold, Inc. Citizenship Committee (the PAC) by counsel, R. Patrick Vance.

Final Audit Report: LaRouche's Committee for a New Bretton Woods.

Draft Notice of Public Hearing and Request for Comment Regarding Enforcement Procedures.

Routine Administrative Matters.

Person To Contact for Information: Mr. Ron Harris, Press Officer, Telephone: (202) 694-1220.

Mary W. Dove,
Secretary of the Commission.

[FR Doc. 03-9586 Filed 4-15-03; 10:41 am]

BILLING CODE 6715-01-M